DEPARTMENT OF COMMERCE

International Trade Administration

[A-485-806]

Certain Hot-Rolled Carbon Steel Flat Products From Romania: Notice of Rescission of Antidumping Duty Administrative Review

AGENCY: Import Administration, International Trade Administration, Department of Commerce.

ACTION: Notice of rescission of antidumping duty administrative review.

EFFECTIVE DATE: February 6, 2003.

SUMMARY: On December 26, 2002, the Department of Commerce (the Department) published in the Federal Register (67 FR 78772) a notice announcing the initiation of an administrative review of the antidumping duty order on certain hot-rolled carbon steel flat products from Romania, covering the period May 3, 2001, through October 31, 2002, and three manufacturer/exporters of the subject merchandise: Sides Trading, SRL and Sidex International PLC; Metanef, S.A. and Metagrimex, S.A.¹ We are now rescinding this review as a result of the petitioners' withdrawal of their request for an administrative review.

¹ The petitioners requested a review of a fourth company, Metalexportimport, S.A., which the Department inadvertently failed to include in its notice of initiation. In their December 24, 2002, letter, the petitioners withdrew their review request for this company, as well.

FOR FURTHER INFORMATION CONTACT: Charles Riggle at (202) 482-0650 or Magd Zalok at (202) 482-4162, Import Administration, Room 1870, International Trade Administration, U.S. Department of Commerce, 14th Street and Constitution Avenue, NW., Washington, DC 20230.

SUPPLEMENTARY INFORMATION:

Background

On November 27, 2002, Bethlehem Steel Corporation, National Steel Corporation, and U.S. Steel Corporation (Bethlehem Steel et al.), the petitioners in the original investigation in this case, in accordance with 19 CFR 351.213(b), requested an administrative review of the antidumping duty order on certain hot-rolled carbon steel flat products from Romania. On December 19, 2002, in accordance with 19 CFR 351.221(c)(1)(i), we initiated an administrative review of this order for the period May 3, 2001, through October 31, 2002. See Notice of Initiation of Antidumping and Countervailing Duty Administrative Reviews, 67 FR 78772 (December 26, 2002). On December 24, 2002, Bethlehem Steel et al. withdrew their request for this review.

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. Bethlehem Steel et al. were the only parties to request this review and they withdrew their request within the 90-day period. Accordingly, this review is rescinded.

This notice is issued and published in accordance with section 751 of the Tariff Act of 1930, as amended (19 U.S.C. 1675), and 19 CFR 351.213(d)(4).

Dated: January 29, 2003.
Bernard T. Carreau,
Deputy Assistant Secretary for Group II, Import Administration.

[FR Doc. 03-2954 Filed 2-5-03; 8:45 am]

BILLING CODE 3510-DS-P